DEPARTMENT OF HEALTH AND HUMAN SERVICES

Office of Inspector General

Program Exclusions: March 2003

AGENCY: Office of Inspector General, HHS.

ACTION: Notice of program exclusions.

During the month of March 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
AIRD, EILEEN B | 04/20/2003
RIDGEWOOD, NJ
ALMAZAN, MARIA | 04/20/2003
LA CANADA, CA
AMADOR, CARLOS | 04/20/2003
MIAMI, FL
AMY, LESLIE W | 04/20/2003
RAYBROOK, NY
BAIRD, KARIN LYNN | 04/20/2003
YUCAIPA, CA
BARON, ADOLFO | 04/20/2003
MIAMI, FL
BENTHALL, MARK JOSEPH | 04/20/2003
ST LOUIS, MO
BOOKER, THELMA A | 04/20/2003
ATCHISON, KS
BREARY, CHESTER H JR | 04/20/2003
ORIENT, OH
BRINGAS, AL | 04/20/2003
YAZOO CITY, MS
CANABAL-ENRIQUEZ, JOSE | 04/20/2003
YAUCO, PR
CANET, FRANCISCO | 04/20/2003
HAWTHORNE, CA
CASTELLON, MIRIAM MAGALY | 04/20/2003
MIAMI, FL
CHADWICK, GARY V | 04/20/2003
WEST VALLEY, UT
CORNWALL, RICHARD O | 04/20/2003
ADVANCE, NC
CROSS, HARRY G | 04/20/2003
GOLDSBORO, NC
DAO, MICHAEL M | 08/24/1998
CLARKSVILLE, TN
DAVIS, VIRGIL JR | 04/20/2003
COMPTON, CA
DIALYSIS WITH HEART, INC | 04/20/2003
SHREWSBURY, PA
DIVERSIFIED HEALTH SVCS | 08/27/2001
MEMPHIS, TN
EPSTEIN, HELEN | 04/20/2003
N WOODMERE, NY
FERNANDEZ, ELIO | 04/20/2003
MIAMI, FL
FULCRUM SERVICES, INC | 04/20/2003
TAMPA, FL
GALIANO, CARMEN | 04/20/2003
MIAMI, FL
GARDNER, THOMAS VINCENT | 04/20/2003
TRAVERSE CITY, MI
GENCO, RICHARD | 04/20/2003
S FALLSBURGH, NY
GLICKLICH, DANA NATALIA | 04/20/2003
NEW YORK, NY
GRIMBLE, GERVIS JEROME | 04/20/2003
LOS ANGELES, CA
GS CARE CORP | 04/20/2003
TAMPA, FL
HANNA, GEORGE | 04/20/2003
LOS ANGELES, CA
HERNANDEZ, ROLANDO ARIAS | 04/20/2003
INGLEWOOD, CA
IMANI, ALI GHAZVINY | 04/20/2003
LOS ANGELES, CA
IZZO, MARY JO | 04/20/2003
ROCHESTER, NY
JEREZ, MERCEDES | 04/20/2003
MIAMI, FL
JOHNSON, DARRELL | 04/20/2003
MIAMI, FL
JONES, GENOLA | 04/20/2003
MIRAMAR, FL
KAI, TAMMY | 04/20/2003
KAILUA, HI
KALIANA, KUMAR M | 04/20/2003
OXFORD, WI
KATZ, ROBERT | 04/20/2003
BAY SHORE, NY
KHAN, AZIZ | 04/20/2003
DIX HILLS, NY
KILLINGS, CURTIS EARL | 04/20/2004
LOS ANGELES, CA
KOSHKARYAN, OGANES | 04/20/2003
LOS ANGELES, CA
KUSHKIN, ALEX L | 04/20/2003
COLUMBUS, OH
LACEY, ESTHER A | 04/20/2003
ATLANTA, GA
LOUIS, JACQUES C | 04/20/2003
HARTSDALE, NY
LUGONES, LOYDA L | 04/20/2003
COLEMAN, FL
LUGONES, PEDRO | 04/20/2003
MIAMI, FL
MANUEL, LAUREANO M | 04/20/2003
CAMP HILL, PA
MASSENBURG, OLAF | 04/20/2003
WINSTON-SALEM, NC
MENA, MARIO R | 04/20/2003
PENSACOLA, FL
MOLINA, ESPERANZA ELIZABETH RI | 04/20/2003
BELL, CA
MORALES, EMMAR D | 04/20/2003
N ANDOVER, MA
MOTA, REINIRDO | 04/20/2003
MIAMI, FL
MUNACO, VITO | 04/20/2003
ROCHESTER, MI
MURRAY, GERALDINE | 04/20/2003
MIAMI, FL
NODARSE, ANGELA | 04/20/2003
MIAMI, FL
PEREZ, LUIS ARMANDO | 04/20/2003
COLEMAN, FL
PEREZ, JORGE ENRIQUE | 04/20/2003
MIAMI BEACH, FL
PERKINS, CAROLYN | 04/20/2003
CAMPBELL, MO
PILLOT-COSTAS, JUAN | 04/20/2003
PONCE, PR
PUMA, YOON | 04/20/2003
LONG BEACH, CA
SCARBOUGH, BENARD KEYES | 04/20/2003
LOS ANGELES, CA
SIEBZENER, MARC LOUIS | 04/20/2003
CHICAGO, IL
SIMPSON, CYNTHIA | 04/20/2003
MOUNT VERNON, NY
SINIBALDI, JOSE LUIS | 04/20/2003
INGLEWOOD, CA
SKORUPKO, VADIM A | 04/20/2003
SAN JOSE, CA
SMART, TWANA JEAN | 04/20/2003
LAS VEGAS, NV
SREY, THAVY | 04/20/2003
SIGNAL HILL, CA
TALEI, MOUSA | 04/20/2003
LOS ANGELES, CA
THOMAS, SHARON A | 04/20/2003
ATCHISON, KS
THOMAS, ARCHIE MELVIN | 04/20/2003
LOS ANGELES, CA
THOMPSON, EDWIN G | 04/20/2003
CLEVELAND, OH
TRICHE, MITCHELL RAY SR | 04/20/2003
LOS ANGELES, CA
URCHECK, JEROME WALTER | 04/20/2003
BERKLEY, MI
VALDES, ROLANDO R | 04/20/2003
HIALEAH, FL
WHITE, LEROY SYDNEY | 04/20/2003
COMPTON, CA
WILLIAMS, EDDIE LEE | 04/20/2003
OPA LOCKA, FL
WOODS, RHONDA | 04/20/2003
DUBLIN, VA
YDROVO, ERICKA | 04/20/2003
MIAMI, FL
YDROVO, OSCAR | 04/20/2003
MIAMI, FL
FELONY CONVICTION FOR HEALTH CARE FRAUD
BERLOW, BERNARD | 04/20/2003
MINERSVILLE, PA
BOWEN, DENNIS | 04/20/2003
LEWISTOWN, PA
DENNY, MARY ELLEN | 04/20/2003
BAINBRIDGE, IN
EDWARDS, MARY LATRICE | 04/20/2003
COLORADO SPRNGS, CO
HALE, KIMBERLY RENEE | 04/20/2003
CEDAR RAPIDS, IA
MCMAHAN, ANN ALEXANDER | 04/20/2003
BLACK MOUNTAIN, NC
NEWMAN, LEE DAVID | 04/20/2003
LOS ANGELES, CA
PIERARD, JAMES EDWARD | 04/20/2003
E PEORIA, IL
RAPER, HEATHER | 04/20/2003
CORDELE, GA
SIRCAR, SAMAR | 04/20/2003
ROLLING HILLS, CA
SOGOMONYAN, GEORGIY R | 04/20/2003
LOMPOC, CA
SORENSEN, PHILIP M | 04/20/2003
OKEMOS, MI
STETZ, MICHAEL | 04/20/2003
POTTERVILLE, MI
FELONY CONTROL SUBSTANCE CONVICTION
BETUSH, MONICA | 04/20/2003
OLEAN, NY
GALPIN, KENNETH SCOTT | 04/20/2003
PLACERVILLE, CA
GARCIA-MEDINA, BENJAMIN A | 04/20/2003
WHITE DEER, PA
GRAVES, JAMES FREDERICK | 04/20/2003
PACE, FL
INFANTINO, VERNON A | 04/20/2003
AKRON, OH
PEARRE, PAMELA G | 04/20/2003
JEFFERSON CITY, MO
REYNOLDS, JANA L | 04/20/2003
SPANISH FORK, UT
SNYDER, BARBARA ELLEN | 04/20/2003
ROCKVILLE, IN
TOLEDO, ISABELLE SLOWMAN | 04/20/2003
SMITHFIELD, UT
WESTHOFF, JACQUELINE NELL | 04/20/2003
FORT MORGAN, CO
PATIENT ABUSE/NEGLECT CONVICTIONS
ALFORD, JARED | 04/20/2003
NEWARK, NJ
BONNER, LISA L | 04/20/2003
WETUMPKA, AL
CLARENDON, HENRY MOWAT | 04/20/2003
GAINESVILLE, FL
DESENCLOS, ERIC JOSEPH | 04/20/2003
MORENO VALLEY, CA
FANNIN, BARBARA | 04/20/2003
ATLANTA, GA
GARDNER, TOD THOMAS | 04/20/2003
HOPKINS, MN
HACKBART, DAVID ALAN | 04/20/2003
PLYMOUTH, MN
IVORY, CONSTANT MARIE | 04/20/2003
BUNKIE, LA
JOHNSON, PEARLIE LATIMER | 04/20/2003
ALBANY, GA
KANDOVA, ROZA M | 04/20/2009
PHOENIX, AZ
MCBETH, MARGARET C | 04/20/2003
CROSS ANCHOR, SC
MILLER, SUSAN E | 04/20/2003
SOMERSET, WI
NICHOLSON, DAVID WAYNE | 04/20/2003
FLORENCE, AZ
REDDY, HARI MARAYANA | 04/20/2003
VICTORVILLE, CA
RICE, VERNON E | 04/20/2003
KANSAS CITY, MO
SAIKIA, SATYAKI R | 04/20/2003
WAUPUN, WI
SEYMOUR, PATRICIA | 04/20/2003
HULL, GA
SPURGEON, MICHAEL D | 04/20/2003
HARRISMAN, TN
STRONG, ANTHONY RICHARD | 04/20/2003
ARVADA, CO
TAMEZ, ANDREW | 04/20/2003
CORPUS CHRISTI, TX
THELEN, TRACY ROSE | 04/20/2003
EDEN VALLEY, MN
CONTROLLED SUBSTANCE CONVICTIONS
FLACK, PATRICA ANN | 04/20/2003
SPRINGFIELD, OH
KELLY, CAROLINE LEE | 04/20/2003
NORWAY, MI
LICENSE REVOCATION/SUSPENSION/SURRENDERED
ABELL, SONIA T | 04/20/2003
PALMYRA, MO
AKERS, ALVIN E | 04/20/2003
MOUNT DORA, FL
ALLSBURY, ROSEANNE D | 04/20/2003
SILSBEE, TX
AMISOLA, JUDE M | 04/20/2003
DIAMOND BAR, CA
ANDERSON, URSULA | 04/20/2003
LOS ANGELES, CA
AUSTIN, KIM E | 04/20/2003
MESA, AZ
BARAJAS, LAURIE Y | 04/20/2003
SHERRARD, IL
BARNET, DONNA LYNN | 04/20/2003
MESA, AZ
BARRETT, THOMAS J | 04/20/2003
EVANS, GA
BARTON, LINDA ANN | 04/20/2003
MODESTO, CA
BENEDICT, MAUREEN ELAINE | 04/20/2003
ST JOSEPH, MO
BERKOWITZ, ROBERT A | 04/20/2003
LYNDHURST, OH
BLACK, CHRISTY ANN | 04/20/2003
MERIDIAN, ID
BLACK, ELWANDA | 04/20/2003
ALPINE, AL
BOOTMAN, STEVEN CRAIG | 04/20/2003
LAKE FOREST, CA
BOYD, JUDITH MARLENE | 04/20/2003
BONIFAY, FL
BRADFORD, PAUL MARTIN | 04/20/2003
HIGHLAND, CA
BRANDT, TOBY E | 04/20/2003
MACUNGIE, PA
BREWER, HOLLY | 04/20/2003
VINTON, VA
BROWN, ALBERT HARVEL | 04/20/2003
CHICAGO, IL
BROWN, MICHELLE R | 04/20/2003
RICHMOND, VA
BRYANT, HOLLI | 04/20/2003
TRUSSVILLE, AL
BURLAS, JEANNIE WITT | 04/20/2003
LATROBE, PA
CARROLL, JAMES L | 04/20/2003
CLEARWATER, FL
CARTER, BRADD SCOTT | 04/20/2003
GRAND JCTION, CO
CATHA, DELVIN | 04/20/2003
BAPCHULE, AZ
CEETO, HENRY | 04/20/2003
RANCHO CUCAMONGA, CA
COCHRANE, DENNIS JOEL | 04/20/2003
SALINA, KS
COE, AMY D | 04/20/2003
PHOENIX, AZ
COLLINS, LEE ANN | 04/20/2003
LEMON FURNACE, PA
COOKMAN, WADE E | 04/20/2003
TUCSON, AZ
COPELAND, GROVER H III | 04/20/2003
CHICAGO, IL
COPPOLA, LURA M | 04/20/2003
GLENDALE, AZ
COVERDALE, JULIE ANN | 04/20/2003
PALMYRA, NJ
CREWS, TARA DAWN | 04/20/2003
NATHALIE, VA
CSAPO, DORINE SUE | 04/20/2003
FLINT, MI
DAVIS, JEREMY PHILIP | 04/20/2003
HOLLYWOOD, FL
DAVIT, SAMUEL | 04/20/2003
CLIFFSIDE PARK, NJ
DAVITIASHVILI, NODARI | 04/20/2003
REGO PARK, NY
DAVY, GAGE WILLIAM | 04/20/2003
HUDSON, FL
DECHORETZ, RAY G | 04/20/2003
MELROSE, MA
DEL REAL, FRANK III | 04/20/2003
FRESNO, CA
DISABATO, ELEANOR JOAN | 04/20/2003
HARTFORD, CT
DOWNING, LAURA ELIZABETH | 04/20/2003
GADSDEN, AL
DUGAN, TERRI L | 04/20/2003
GLENSHAW, PA
FARQUHAR, PERRY GORDON | 04/20/2003
MAD RIVER, CA
FEIGHTNER, ROBERT DUANE | 04/20/2003
TUCSON, AZ
FELKER, MAUREEN ANN | 04/20/2003
BEVERLY HILLS, CA
FISCHER, NISHA L | 04/20/2003
TEMPE, AZ
FISHER, KAREN KLOVANISH | 04/20/2003
LEBANON, IN
FISHER, KIMBERLY MICHELLE | 04/20/2003
JACKSONVILLE, FL
FLEMING, RICHARD E | 04/20/2003
SAN LUIS OBISPO, CA
FLETCHER, JEREMIAH R | 04/20/2003
CONWAY, VA
GEORGE, LAVERA M | 04/20/2003
MCKEESPORT, PA
GERO, MARLENE BRENT | 04/20/2003
DAYTONA BEACH, FL
GHRAMM, KIMBERLY ANN | 04/20/2003
SHOW LOW, AZ
GILLARD, MARY S | 04/20/2003
ASBURY PARK, NJ
GRABOSKI, TAMMY L | 04/20/2003
DUNCANSVILLE, PA
HALL, HEIDE HALLADAY | 04/20/2003
SCOTTSDALE, AZ
HARPER, KYRA MAMIE | 04/20/2003
CHICAGO, IL
HEERLEIN, CHRISTINE N | 04/20/2003
FENTON, MO
HERZOG, MARK S | 04/20/2003
PINCKNEY, MI
HOUSER, ALFRED JAMES | 04/20/2003
SANFORD, FL
HOWLE, SUSAN L | 04/20/2003
PHILADELPHIA, PA
HUTER, ERIC LAWRENCE | 04/20/2003
FT WALTON BCH, FL
INGLE, MARGUERITE B | 04/20/2003
NORFOLK, VA
IVORY, GERRY N | 04/20/2003
CHICAGO, IL
JAMES, GARY D | 04/20/2003
HAZARD, KY
JARBOE, KATHRYN ROSE | 04/20/2003
LEWISTON, ME
KELLY, KATHY JOE | 04/20/2003
LOVELAND, CO
KINSER, JIMMY NOEL | 04/20/2003
COEUR D'ALENE, ID
KLAUMENZER, JANE W | 04/20/2003
LONG BRANCH TWP, NJ
KLEEFELD, BETTINA | 04/20/2003
BIG RIVER, CA
KNOEFLER, HALEE CRAIG | 04/20/2003
RIVERSIDE, CA
KOZUSKO, DEBORAH LOUISE | 04/20/2003
OMAHA, NE
KULMA, ROGER L | 04/20/2003
DOWNERS GROVE, IL
LACHARITE, CHRISTOPHER | 04/20/2003
BOYNTON BEACH, FL
LE, TRUNG DUY | 04/20/2003
PHOENIX, AZ
LOPEZ, JULIAN GARCIA | 04/20/2003
LOS ANGELES, CA
LOWE, MONICA ELIZABETH | 04/20/2003
BAKERSFIELD, CA
LUMAKIN, RODOLFO DIVINAGRACIA | 04/20/2003
BELLFLOWER, CA
MANIACI, BARBARA MELLER | 04/20/2003
CAMILLUS, NY
MANOS, MICHAEL G | 04/20/2003
GROVETOWN, GA
MARTINEZ PHARMACY DISCOUNT, IN | 04/20/2003
MIAMI, FL
MAUER, WILLIAM JOHN JR | 04/20/2003
ARLINGTON HGTS, IL
MAY, APRIL ANN | 04/20/2003
BOISE, ID
MAZZACANO, JULIE A | 04/20/2003
TREVOSE, PA
MAZZI, JAMES ALBERT | 04/20/2003
HUBBARD, OH
MCCONAGHY-KALER, KRISTEN | 04/20/2003
AGUANGA, CA
MCCRARY, CHRISTEEN FINGER | 04/20/2003
REDLANDS, CA
MCDONOUGH, EDITH | 04/20/2003
PORTSMOUTH, NH
MCKINSTER, MICHAEL | 04/20/2003
COLTON, CA
MCLAREN, JACQUELINE LEA | 04/20/2003
BRIGHTON, CO
MCMILLAN, SUSAN ELIZABETH | 04/20/2003
MESA, AZ
MERCIER, MARY E | 04/20/2003
NEW BRITAIN, CT
MILLIRON, NANCY PAISLEY | 04/20/2003
SALEM, VA
MURRAY, WILLIAM O | 04/20/2003
KNOXVILLE, TN
MYERS, DEBRA KAY | 04/20/2003
CARMICHAEL, CA
NICHOLS, NANCY | 04/20/2003
ROCHESTER, NY
NIELSEN, LORI PRESTWICH | 04/20/2003
OREM, UT
OZOLINS-MORGAN, KELLY ANN | 04/20/2003
EDMOND, OK
PETERSON, SHERRY L | 04/20/2003
WEST PLAINS, MO
PHAM, MEGAN LOAN | 04/20/2003
WESTMINSTER, CA
PITMAN, KATHRYN A | 04/20/2003
MOBILE, AL
POL, WILLIAM | 04/20/2003
LAKE HAVASU CITY, AZ
POPE, BOBBY II | 04/20/2003
WAUKETAN, IL
PORTALES, RAMON | 04/20/2003
SAN DIMAS, CA
PRICE, DORIS | 04/20/2003
RUTHER GLEN, VA
RABUKHIN, ALEKSANDER | 04/20/2003
REGO PARK, NY
RICHARDSON, KENNETH DEWAYNE | 04/20/2003
SARALAND, AL
RIDGLEY, HARRY DEAN | 04/20/2003
ORTING, WA
RIPA, NICOLE ELIZABETH | 04/20/2003
BEATRICE, NE
ROBBINS, DONNA JEAN | 04/20/2003
EDGEWATER, CO
ROBERTS, JUDY A | 04/20/2003
WYNANTSKILL, NY
RUSSELL-FREY, SHERRI LEIGH | 04/20/2003
TUCSON, AZ
SAGE, TRUDANCE LYNN | 04/20/2003
PUEBLO, CO
SALTER, FRANCES D | 04/20/2003
ATMORE, AL
SAMUELS, ERIC LEE | 04/20/2003
KANKAKEE, IL
SCHAAF, PAMELA JEANNE | 04/20/2003
BOUNTIFUL, UT
SCOTT, DONNA L | 04/20/2003
PHOENIX, AZ
SEELYE, TREVOR D | 04/20/2003
LAFAYETTE, CA
SEKAYUMPTEWA, MARY LOU | 04/20/2003
PHOENIX, AZ
SELLNER, RUSSELL P | 04/20/2003
COLORADO SPRNGS, CO
SETTLES, REBECCA ANN | 04/20/2003
LOS ANGELES, CA
SHAFFER, BARRY GRANT | 04/20/2003
BRIGHTON, CO
SHANNON, CATHY A | 04/20/2003
PHOENIX, AZ
SIEGLER, MICHAEL LAWRENCE | 04/20/2003
SUNNYVALE, CA
SLAWINSKI, LISA MARIE | 04/20/2003
SPRING HILL, FL
SMITH, KATHY L | 04/20/2003
SACO, ME
SMITH, MARGARET JEAN | 04/20/2003
KISSIMMEE, FL
SMITH, STANLEY ORVAL | 04/20/2003
REDDING, CA
SMITHMEN, ANNA | 04/20/2003
ELMIRA, NY
SOMMER, JUDITH FORNES | 04/20/2003
N TONAWANDA, NY
SON, KA MYUNG | 04/20/2003
LOS ANGELES, CA
SOX, JOE HOWLE | 04/20/2003
GULF SHORES, AL
SPAIN, ROBERTA LEA | 04/20/2003
OKEMAH, OK
SPIRES, FAYE D | 04/20/2003
WILMINGTON, NC
SPURLOCK, RODNEY ARTHUR | 04/20/2003
BELLEVUE, NE
STEINER, GINNY MARIE | 04/20/2003
TWIN FALLS, ID
STEVENS, TRACY M | 04/20/2003
EGG HARBOR CITY, NJ
STILES, SHIRLEY LEE | 04/20/2003
SUN CITY, CA
STOLTZ, KAREN S | 04/20/2003
ALTOONA, PA
STRANGE, KIMBERLY KAY | 04/20/2003
BROWNSBURG, IN
SULLENTRUP, ANGEL LEE | 04/20/2003
NEWBERG, MO
SWARTZ, WENDY QUIRIN | 04/20/2003
ALTOONA, PA
SWEENEY, DREMA MERCER | 04/20/2003
GREENVILLE, KY
TAKAYAMA, DUANE | 04/20/2003
SAN GABRIEL, CA
TAMRAT, MERSHA | 04/20/2003
GLENDALE, AZ
TATGE, LUTHER WILLIS | 04/20/2003
GOLDEN, CO
TAYLOR, JAMES | 04/20/2003
PHOENIX, AZ
UNGER-MODER, JILL | 04/20/2003
W LAFAYETTE, IN
VANDENBERG, CINDY LOU | 04/20/2003
HENRIETTA, NY
VANDERGRIFF, JUDITH LYNNE | 04/20/2003
DECATUR, AL
VARNER, RONALD L | 04/20/2003
EVANS, GA
VEAL, PHILLIP MARK | 04/20/2003
TUCSON, AZ
VEAL, ANTHONY DEWAYNE | 04/20/2003
PHOENIX, AZ
VISEK, TERI LU | 04/20/2003
OMAHA, NE
VOGT, REGINA KAY | 04/20/2003
MINNEAPOLIS, MN
WELLS, TRACY JON | 04/20/2003
ROCKLIN, CA
WHEELER, HEATHER | 04/20/2003
BRIGHAM CITY, UT
WHITE, MICHAEL DALE | 04/20/2003
STEPHENS CITY, VA
WILLIAMS, LILLIAN | 04/20/2003
COLUMBIA, MD
YARROW, ROBIN ANN | 04/20/2003
PORTLAND, CT
YATES, MILDRED GERALDINE | 04/20/2003
TROY, NY
YOUNG, JAMES M | 04/20/2003
SIERRA VISTA, AZ
FEDERAL/STATE EXCLUSION/SUSPENSION
BRUSILOVSKY, ROMAN | 04/20/2003
GLENVIEW, IL
KOPP, RUTH LEWSHENIA | 04/20/2003
PEKIN, IL
LEE, HOI W | 04/20/2003
RENTON, WA
FRAUD/KICKBACKS
HELLER, ERI | 08/19/2002
SANTA MONICA, CA.
OWNED/CONTROLLED BY CONVICTED ENTITIES
ALAMO MEDICAL SUPPLY & EQPMT | 04/20/2003
VAN NUYS, CA
ALL STAR MARKETING INC | 04/20/2003
MIAMI, FL
ATLAS CLINICAL LAB, INC | 04/20/2003
CORAL GABLES, FL
BEST CARE CORP | 04/20/2003
PENSACOLA, FL
BEST MEDICAL BILLING, INC | 04/20/2003
MIAMI, FL
BLUE SKIES AND CANDY | 04/20/2003
STOCKBRIDGE, GA
MARIO MENA CORPORATION | 04/20/2003
PENSACOLA, FL
MIAMI CARE, INC | 10/02/2001
MIAMI, FL
NW ADULT DAY CARE CENTER, INC | 04/20/2003
JACKSONVILLE, FL
NW ADULT DAYCARE CTR OF JACK | 04/20/2003
JACKSONVILLE, FL
SANTA MONICA DISCOUNT PHARMACY | 04/20/2003
LOS ANGELES, CA
UNITED RESPIRATORY SVCS, INC | 04/20/2003
MIAMI, FL
WELLBEING DIAGNOSTIC CTR, INC | 04/20/2003
PENSACOLA, FL
DEFAULT ON HEAL LOAN
ARRON, BRETT LAWRENCE | 04/20/2003
CHICAGO, IL
BANERJEE, KAUSTUV | 04/20/2003
PHILADELPHIA, PA
BELL, DEREK A | 04/20/2003
NORRISTOWN, PA
DUDLEY, JAMES L | 04/20/2003
LAS VEGAS, NV
EVANS, STEVEN D | 04/20/2003
PITTSBURGH, PA
GAIN, JOHN J | 04/20/2003
OXFORD, PA
GILES, BEVERLY A | 03/04/2003
PHILADELPHIA, PA
HYNEMAN, MARTIN P | 04/20/2003
READING, PA
LABATE-STERLING, CATHLEEN A | 04/20/2003
GRANTHAM, NH
MCANALLEN, CURTIS M | 02/03/2003
WESTERVILLE, OH
SALOMON, ALIX P | 01/09/2003
CHICAGO, IL
SMITH, JOHN D | 04/20/2003
PHILADELPHIA, PA
SPEER, JAMES D | 04/20/2003
CORPUS CHRISTI, TX

Dated: March 31, 2003.
Katherine B. Petrowski,
Director, Exclusions Staff, Office of Inspector General.

[FR Doc. 03-8802 Filed 4-14-03; 8:45 am]

BILLING CODE 4150-04-P